DEPARTMENT OF TRANSPORTATION

Federal Aviation Administration

14 CFR Part 71

[Airspace Docket No. 02-ACE-7]

Modification of Class D Airspace; Knob Noster, Whiteman AFB, MO; Modification of Class E Airspace; Knob Noster, Whiteman AFB, MO; Correction

AGENCY: Federal Aviation Administration (FAA), DOT.

ACTION:

Final rule; correction.

SUMMARY: This action corrects an error in the effective date of a final rule that was published in the Federal Register on Friday, October 25, 2002 (67 FR 65498). The rule modifies Class D and Class E airspace at Knob Noster, Whiteman AFB, MO.

EFFECTIVE DATE: January 23, 2003.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

Background

Federal Register Document 02-27176 published on Friday, October 25, 2002, (67 FR 65498) modifies Class D and Class E airspace at Knob Noster, Whiteman AFB, MO.

Correction of Publication

Accordingly, pursuant to the authority delegated to me, the effective date of the modification of Class D and Class E airspace, Knob Noster, Whiteman AFB, MO, as published in the Federal Register Friday, October 25, 2002, (67 FR 65498), (FR Doc. 02-27176), is corrected as follows:

§ 71.1 [Corrected]

On page 65498, Column 2, EFFECTIVE DATE paragraph, after EFFECTIVE DATE: Change “0902 UTC, December 26, 2002.” to read “0901 UTC, January 23, 2003.”

Issued in Kansas City, MO, on October 29, 2002.
Herman J. Lyons, Jr.
Manager, Air Traffic Division, Central Region.

[FR Doc. 02-29457 Filed 11-20-02; 8:45 am]

BILLING CODE 4910-13-M